DEPARTMENT OF COMMERCE

International Trade Administration

[A-583-853]

Certain Crystalline Silicon Photovoltaic Products From Taiwan: Preliminary Results of Antidumping Duty Administrative Review and Partial Rescisssion of Antidumping Duty Administrative Review; 2014-2016

AGENCY: Enforcement and Compliance, International Trade Administration, Department of Commerce.

SUMMARY: The Department of Commerce (“the Department”) is conducting an administrative review of the antidumping duty order on certain crystalline silicon photovoltaic products (solar products) from Taiwan. The period of review (“POR”) is July 31, 2014, through January 31, 2016. This administrative review covers 14 exporters of the subject merchandise, including two mandatory respondents, Motech Industries, Inc. (“Motech”) and Sino-American Silicon Products Inc. (“SAS”). The Department preliminarily determines SAS and Motech made sales of subject merchandise at less than normal value during the POR. Additionally, we are rescinding this administrative review with respect to 18 companies that timely withdrew their request for administrative review. Interested parties are invited to comment on these preliminary results.

DATES: Effective March 7, 2017.

FOR FURTHER INFORMATION CONTACT: Magd Zalok or Thomas Martin, AD/CVD Operations, Office IV, Enforcement and Compliance, International Trade Administration, U.S. Department of Commerce, 1401 Constitution Avenue NW., Washington, DC 20230; telephone: (202) 482-4162 or (202) 482-3936, respectively.

SUPPLEMENTARY INFORMATION:

Background

On February 3, 2016, the Department notified interested parties of the opportunity to request an administrative review of orders, findings, or suspended investigations with anniversaries in February 2016, including the antidumping duty (“AD”) order on solar products from Taiwan.¹ On February 29, 2016, SolarWorld Americas Inc. (“Petitioner”), as well as various exporters and exporters requested that the Department conduct an administrative review of certain exporters covering the POR. On April 7, 2016, the Department published a notice initiating an AD administrative review of solar products from the Taiwan covering 32 companies/company groupings for the POR.²

¹ See Antidumping or Countervailing Duty Order, Finding, or Suspended Investigation; Opportunity To Request Administrative Review, 81 FR 5712 (February 3, 2016).

² See Initiation of Antidumping and Countervailing Duty Administrative Reviews, 81 FR 20324 (April 7, 2016) (Initiation Notice).

In the Initiation Notice, the Department stated that if it limited the number of respondents for individual examination, then it intended to select respondents based on volume data contained in responses to its quantity and value (“Q&V”) questionnaire.³ On April 12, 2016, the Department issued Q&V questionnaires to all 32 companies.⁴ We received Q&V questionnaire responses from 14 companies ⁵ named in the Initiation Notice. The remaining 18 companies ⁶ withdrew their requests for administrative review, pursuant to 19 CFR 351.213(d)(1). Because these 18 companies timely withdrew their requests for administrative review pursuant to 19 CFR 351.213(d)(1), and no other party requested a review of these companies, we are rescinding the administrative review with respect to these companies.

³ Id. at 20324.

⁴ The Department explained in the Initiation Notice that the units used to measure the imported quantities of solar cells and solar modules in the CBP data are reported in “piece” units and it would not be meaningful to sum the number of imported solar cells and the number of imported solar modules in attempting to determine the largest Taiwan exporters of subject merchandise by volume. Id. Therefore, the Department stated that it would issue Q&V questionnaires to determine the volume of subject merchandise shipped to the United States by Taiwanese exporters/producers. Id.

⁵ AU Optronics Corporation, EEPV CORP., E-TON Solar Tech. Co., Ltd., Gintech Energy Corporation, Inventec Energy Corporation, Inventec Solar Energy Corporation, Kyocera Mexicana S.A. de C.V., Motech Industries, Inc., Sino-American Silicon Products Inc., Solartech Energy Corporation, Sunengine Corporation Ltd., Sunrise Global Solar Energy, TSEC Corporation, and Win Win Precision Technology Co., Ltd.

⁶ Baoding Jiasheng Photovoltaic Technology Co. Ltd., Baoding Tianwei Yingli New Energy Resources Co., Ltd., Beijing Tianneng Yingli New Energy Resources Co. Ltd., Boviet Solar Technology Co., Ltd., Canadian Solar Inc., Canadian Solar International, Ltd., Canadian Solar Manufacturing (Changshu), Inc., Canadian Solar Manufacturing (Luoyang), Inc., Canadian Solar Solution Inc., Hainan Yingli New Energy Resources Co., Ltd., Hengshui Yingli New Energy Resources Co., Ltd., Lixian Yingli New Energy Resources Co., Ltd., Shenzhen Yingli New Energy Resources Co., Ltd., Tianjin Yingli New Energy Resources Co., Ltd., Vina Solar Technology Co., Ltd., Yingli Energy (China) Co., Ltd., Yingli Green Energy Holding Company Limited, and Yingli Green Energy International Trading Company Limited.

On May 18, 2016, the Department selected Motech and SAS as mandatory respondents.⁷

⁷ See memorandum from Thomas Martin, Senior International Trade Compliance Analyst, Office IV, AD/CVD Operations, Enforcement and Compliance to Abdelali Elouaradia, Director, Office IV, AD/CVD Operations, Enforcement and Compliance regarding “2014-2016 Antidumping Duty Administrative Review of Certain Crystalline Silicon Photovoltaic Products from Taiwan: Respondent Selection,” dated May 18, 2016 at 4-5.

From May 20, 2016, through February 23, 2017, the Department issued questionnaires to, and received timely responses from from the two mandatory respondents.⁸ Petitioner commented on these responses between July 8, 2016, and December 5, 2016.

⁸ See Letters from Motech to the Department dated June 21, July 11, July 15, August 12, September 19, September 23, October 24, November 15, 2016; January 18, 2017, February 14, 2017 and February 23, 2017; Letters from SAS and Solartech to the Department dated June 20, July 12, July 18, October 25, and November 8, 2016; January 9, January 12, January 24, and February 10, 2017.

On October 12, 2016, the Department extended the deadline for issuing the preliminary results of this administrative review to February 28, 2017.⁹

⁹ See Memorandum from Magd Zalok, International Trade Compliance Analyst, Office IV, Antidumping and Countervailing Duty Operations through Abdelali Elouaradia, Director, Office IV, Antidumping and Countervailing Duty Operations, to Christian Marsh, Deputy Assistant Secretary for Antidumping and Countervailing Duty Operations, regarding “Crystalline Silicon Photovoltaic Products from Taiwan: Extension of Deadline for Preliminary Results of Antidumping Duty Administrative Review,” dated October 12, 2016.

On December 12, 2016, we determined that SAS and Solartech Energy Corp. (“Solartech”), an affiliated entity involved in the production, sales and distribution of the products covered by this administrative review, are affiliated, pursuant to section 771(33)(E) of the Act.¹⁰ In addition, based on the evidence provided in SAS' and Solartech's questionnaire responses and 19 CFR 351.401(f), we preliminarily determined that SAS and Solartech (hereinafter “SAS-Solartech”) should be collapsed and treated as a single entity in this administrative review.¹¹ This finding was based in part on the determination that Solartech has production facilities for similar or identical products that would not require substantial retooling in order to restructure manufacturing priorities, pursuant to 19 CFR 351.401(f)(1). Additionally, our finding was based on the determination that the level of common ownership, management overlap, and intertwined operations between SAS and Solartech may result in a significant potential for manipulation of price or production of subject merchandise, pursuant to 19 CFR 351.401(f)(2).¹²

¹⁰ See, Memorandum To Abdelali Elouaradia, Director, Office IV, Enforcement and Compliance, From Magd Zalok, International Trade Analyst, Office IV, Through Robert Bolling, Program Manager, Office IV—Antidumping Duty Administrative Review of Certain Crystalline Silicon Photovoltaic Products from Taiwan: Sin-American Silicon Products Inc. Preliminary Affiliation and Collapsing Memorandum, dated December 12, 2016 (the “Collapsing Entity Memorandum”).

¹¹ Id.

¹² Id.

SAS-Solartech and Petitioner submitted comments in response to the Department's January 18, 2017, request for comments for consideration in these preliminary results of review on February 9, 2017, and February 10, 2017, respectively.¹³

¹³ See Letter from SAS-Solartech to Acting Secretary of Commerce, “Re: Certain Crystalline Silicon Phtovoltaic Products from Taiwan: Resubmission of Comments Regarding the Department's Upcoming Preliminary Results,” dated February 9, 2017; Letter from Petitioner to Acting Secretary of Commerce, “Re: Certain Crystalline Silicon Phtovoltaic Products from Taiwan: Resubmission of Petitioner's Pre-Preliminary Comments,” dated February 10, 2017.

Partial Rescission of Administrative Review

On February 29, 2016, the Department received multiple timely requests for an administrative review of the AD order on solar products from Taiwan. In response to timely-filed withdrawal requests, we are rescinding this administrative review with respect to 18 companies ¹⁴ pursuant to 19 CFR 351.213(d)(1).¹⁵ Accordingly, the companies subject to the instant review are: AU Optronics Corporation, EEPV CORP., E-TON Solar Tech. Co., Ltd., Gintech Energy Corporation, Inventec Energy Corporation, Inventec Solar Energy Corporation, Kyocera Mexicana S.A. de C.V., Motech, SAS, Solartech, Sunengine Corporation Ltd., Sunrise Global Solar Energy, TSEC Corporation, and Win Win Precision Technology Co., Ltd., of which the Department has selected Motech and SAS-Solartech as the mandatory respondents.

¹⁴ Baoding Jiasheng Photovoltaic Technology Co. Ltd., Baoding Tianwei Yingli New Energy Resources Co., Ltd., Beijing Tianneng Yingli New Energy Resources Co. Ltd., Boviet Solar Technology Co., Ltd., Canadian Solar Inc., Canadian Solar International, Ltd., Canadian Solar Manufacturing (Changshu), Inc., Canadian Solar Manufacturing (Luoyang), Inc., Canadian Solar Solution Inc., Hainan Yingli New Energy Resources Co., Ltd., Hengshui Yingli New Energy Resources Co., Ltd., Lixian Yingli New Energy Resources Co., Ltd., Shenzhen Yingli New Energy Resources Co., Ltd., Tianjin Yingli New Energy Resources Co., Ltd., Vina Solar Technology Co., Ltd., Yingli Energy (China) Co., Ltd., Yingli Green Energy Holding Company Limited, and Yingli Green Energy International Trading Company Limited.

¹⁵ See footnote 6 above.

Scope of the Order

The merchandise covered by this order is crystalline silicon photovoltaic cells, and modules, laminates and/or panels consisting of crystalline silicon photovoltaic cells, whether or not partially or fully assembled into other products, including building integrated materials.¹⁶ Merchandise covered by this order is currently classified in the Harmonized Tariff Schedule of the United States (“HTSUS”) under subheadings 8501.61.0000, 8507.20.8030, 8507.20.8040, 8507.20.8060, 8507.20.8090, 8541.40.6020, 8541.40.6030 and 8501.31.8000. These HTSUS subheadings are provided for convenience and customs purposes; the written description of the scope is dispositive.

¹⁶ For a complete description of the scope of the products under review, see Memorandum from James Maeder, Senior Director, Office I, Antidumping and Countervailing Duty Operations, to Ronald K. Lorentzen, Acting Assistant Secretary for Enforcement and Compliance, “Decision Memorandum for Preliminary Results of the 2014-2016 Antidumping Duty Administrative Review of Certain Crystalline Silicon Photovoltaic Products from Taiwan,” dated concurrently with, and hereby adopted by this notice (Preliminary Decision Memorandum). The Preliminary Decision Memorandum is a public document and is on file electronically via Enforcement and Compliance's Antidumping and Countervailing Duty Centralized Electronic Service System (ACCESS). ACCESS is available to registered users at http://access.trade.gov and available to all parties in the Central Records Unit, room B8024 of the main Department of Commerce building. In addition, a complete version of the Preliminary Decision Memorandum can be accessed directly on the Internet at http://enforcement.trade.gov/frn/. The signed and electronic versions of the Preliminary Decision Memorandum are identical in content.

Methodology

The Department is conducting this review in accordance with section 751(a) of the Tariff Act of 1930, as amended (“the Act”). Export price and constructed export price are calculated in accordance with section 772 of the Act. Normal value is calculated in accordance with section 773 of the Act.

For a full description of the methodology underlying our conclusions, see the Preliminary Decision Memorandum.¹⁷ A list of topics included in the Preliminary Decision Memorandum is included as an Appendix to this notice.

¹⁷ See Preliminary Decision Memorandum.

Preliminary Results of Review

As a result of this review, we preliminarily determine the following weighted-average dumping margins for the period July 31, 2014 through January 31, 2016:

Manufacturer/exporter | Weighted-average margin (percent)
Sino-American Silicon Products Inc./Solartech Energy Corp | 3.50
Motech Industries, Inc | 4.20
AU Optronics Corporation | 4.09
EEPV CORP | 4.09
E-TON Solar Tech. Co., Ltd | 4.09
Gintech Energy Corporation | 4.09
Inventec Energy Corporation | 4.09
Inventec Solar Energy Corporation | 4.09
Kyocera Mexicana S.A. de C.V. | 4.09
Sunengine Corporation Ltd | 4.09
Sunrise Global Solar Energy | 4.09
TSEC Corporation | 4.09
Win Win Precision Technology Co., Ltd | 4.09

For the rate for non-selected respondents in an administrative review, generally, the Department looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” With two respondents, we normally calculate (A) a weighted-average of the dumping margins calculated for the mandatory respondents; (B) a simple average of the dumping margins calculated for the mandatory respondents; and (C) a weighted-average of the dumping margins calculated for the mandatory respondents using each company's publicly-ranged values for the merchandise under consideration. We compare (B) and (C) to (A) and select the rate closest to (A) as the most appropriate rate for all other companies.¹⁸ Accordingly, we have applied a rate of 4.09 percent to the non-selected companies, as set forth in the chart above.¹⁹

¹⁸ See Ball Bearings and Parts Thereof From France, Germany, Italy, Japan, and the United Kingdom: Final Results of Antidumping Duty Administrative Reviews, Final Results of Changed-Circumstances Review, and Revocation of an Order in Part, 75 FR 53661, 53663 (September 1, 2010).

¹⁹ See Memorandum from Thomas Martin to the File, “Calculation of the Rate for Non-Selected Respondents,” dated February 28, 2017.

Assessment Rates

Upon completion of the administrative review, the Department shall determine, and U.S. Customs and Border Protection (“CBP”) shall assess, antidumping duties on all appropriate entries. The Department intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).²⁰ For entries of subject merchandise during the POR produced by each respondent for which it did not know its merchandise was destined for the United States, we will instruct CBP to liquidate un-reviewed entries at the all-others rate if there is no rate for the intermediate company involved in the transaction.²¹ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

²⁰ In these preliminary results, the Department applied the assessment rate calculation methodology adopted in Antidumping Proceedings: Calculation of the Weighted-Average Dumping Margin and Assessment Rate in Certain Antidumping Proceedings: Final Modification, 77 FR 8101 (February 14, 2012).

²¹ See Antidumping and Countervailing Duty Proceedings: Assessment of Antidumping Duties, 68 FR 23954 (May 6, 2003).

The final results of this review shall be the basis for the assessment of antidumping duties on entries of merchandise covered by the final results of this review and for future deposits of estimated duties, where applicable.

Cash Deposit Requirements

The following deposit requirements will be effective upon publication of the notice of final results of administrative review for all shipments of solar products from Taiwan entered, or withdrawn from warehouse, for consumption on or after the date of publication of the final results of this administrative review, as provided for by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segmet of the proceeding for the manufacturer of the merchandise; and (4) the cash deposit rate for all other manufacturers or exporters will continue to be 19.50 percent ad valorem, the all-others rate established in the less-than-fair-value investigation.²² These cash deposit requirements, when imposed, shall remain in effect until further notice.

²² See Certain Crystalline Silicon Photovoltaic Products: Final Determination of Sales at Less Than Fair Value, 79 FR 76966 (December 23, 2014).

Disclosure and Public Comment

The Department intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.²³ Parties who submit case briefs or rebuttal briefs in this proceeding are requested to submit with each brief: (1) A statement of the issue, (2) a brief summary of the argument, and (3) a table of authorities.²⁴ Executive summaries should be limited to five pages total, including footnotes.²⁵ Case and rebuttal briefs should be filed using ACCESS.²⁶

²³ See 19 CFR 351.309(d)(1).

²⁴ See 19 CFR 351.309(c)(2) and (d)(2).

²⁵ Id.

²⁶ See 19 CFR 351.303.

Pursuant to 19 CFR 351.310(c), any interested party may request a hearing within 30 days of the publication of this notice in the Federal Register. If a hearing is requested, the Department will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.²⁷

²⁷ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

These preliminary results of administrative review are issued and published in accordance with sections 751(a)(1) and 777(i)(1) of the Act and 19 CFR 351.213(h)(1).

Dated: February 28, 2017.
Ronald K. Lorentzen,
Acting Assistant Secretary for Enforcement and Compliance.

Appendix

List of Topics Discussed in the Preliminary Decision Memorandum

1. Summary

2. Background

3. Scope of the Order

4. Selection of Respondents

5. Affiliation and Collapsing of Affiliates

6. Unexamined Respondents

7. Discussion of Methodology

8. Product Comparisons

9. Date of Sale

10. Export Price/Constructed Export Price

11. Normal Value

12. Revisions to SAS-Solartech's Reported Home Market Sales

13. Cost of Production Analysis

14. Calculation of NV Based on Comparison-Market Prices

15. Currency Conversions

16. Conclusion

[FR Doc. 2017-04413 Filed 3-6-17; 8:45 am]

BILLING CODE 3510-DS-P